DEPARTMENT OF STATE

[Public Notice 5021]

Bureau of Oceans and International Environmental and Scientific Affairs; Advisory Committee to the U.S. Section of the Inter-American Tropical Tuna Commission (Committee Renewal)

Summary: On March 30, 2005, the Department of State renewed the Charter of the Advisory Committee to the U.S. Section of the Inter-American Tropical Tuna Commission (IATTC) for an additional two years.

Effective Date: Upon Publication.

For Further Information Contact: David F. Hogan, IATTC GAC Designated Federal Official, Office of Marine Conservation, Bureau of Oceans and International Environmental and Scientific Affairs, U.S. Department of State, Washington DC 20520, Phone: 202-647-2335.

Supplementary Information: The IATTC was established pursuant to the Convention for the Establishment of an Inter-American Tropical Tuna Commission, signed in 1949. The purpose of the Commission is to conserve and manage the fisheries and associated resources of the eastern tropical Pacific Ocean. The United States is represented to the IATTC by the U.S. Section, which includes four Presidentially-appointed Commissioners and a Department of State representative.

The General Advisory Committee to the United States Section of the IATTC was established pursuant to Section 4 of the Tuna Conventions Act of 1950 (16 U.S.C. 953, as amended), the implementing statute for the IATTC Convention. The goal of the Advisory Committee is to serve the U.S. Section to the IATTC, the Department of State, and other agencies of the U.S. Government as advisors on matters relating to international conservation and management of stocks of tuna and dolphins in the eastern tropical Pacific Ocean, and in particular on the development of U.S. policy and positions associated with such matters.

The Advisory Committee to the U.S. Section of the IATTC may be terminated only by law. In accordance with the provisions of the Federal Advisory Committee Act (Pub. L. 92-463), a new Charter must be issued on a biennial basis from the date the current Charter was approved and filed with Congress and the Library of Congress. The current Charter expired in 2004 due to staff changes.

The Committee is composed of representatives of the major U.S. tuna harvesting, processing, and marketing sectors. Additionally, Committee membership includes representatives of recreational fishing interests and environmental interests formulating specific U.S. policy recommendations and positions.

The Advisory Committee will continue to follow the procedure prescribed by the Federal Advisory Committee Act (FACA). Meetings will continue to be open to the public unless a determination is made in accordance with Section 10 of the FACA, 5 U.S.C. Secs. 552b(c)(1) and (4), that a meeting or a portion of the meeting should be closed to the public. Notice of each meeting continues to be provided for publication in the Federal Register as far in advance as possible prior to the meeting.

Dated: April 11, 2005.
David A. Balton,
Deputy Assistant Secretary of State for Oceans and Fisheries, Department of State.

[FR Doc. 05-8877 Filed 5-3-05; 8:45 am]

BILLING CODE 4710-09-P